DEPARTMENT OF COMMERCE

Foreign-Trade Zones Board

[S-29-2018]

Approval of Subzone Status; Orgill, Inc.; Sikeston, Missouri

On February 9, 2018, the Executive Secretary of the Foreign-Trade Zones (FTZ) Board docketed an application submitted by the St. Louis County Port Authority, grantee of FTZ 102, requesting subzone status subject to the existing activation limit of FTZ 102, on behalf of Orgill, Inc., in Sikeston, Missouri.

The application was processed in accordance with the FTZ Act and Regulations, including notice in the Federal Register inviting public comment (83 FR 6510, February 14, 2018). The FTZ staff examiner reviewed the application and determined that it meets the criteria for approval.

Pursuant to the authority delegated to the FTZ Board's Executive Secretary (15 CFR 400.36(f)), the application to establish Subzone 102F was approved on April 18, 2018, subject to the FTZ Act and the Board's regulations, including Section 400.13, and further subject to FTZ 102's 2,000-acre activation limit.

Dated: April 18, 2018.
Andrew McGilvray,
Executive Secretary.

[FR Doc. 2018-08465 Filed 4-23-18; 8:45 am]

BILLING CODE 3510-DS-P